DEPARTMENT OF DEFENSE

Office of the Secretary

Notice of Availability of the Ground-Based Midcourse Defense Extended Test Range Final Environmental Impact Statement

AGENCY: Missile Defense Agency, Department of Defense.

ACTION: Notice of availability.

SUMMARY: This notice announces the availability of the Missile Defense Agency's Ground-Based Midcourse Defense (GMD) Extended Test Range Final Environmental Impact Statement (FEIS), that analyzes the potential for environmental impacts associated with establishing an extended test range capability providing more realistic operational flight testing capability in support of development of the GMD element of the Ballistic Missile Defense System (BMDS). The current capability includes missile launch sites and array of sensors and other test equipment located at the Ronald Reagan Ballistic Missile Test Site (RTS) at Kwajalein Atoll, the Pacific Missile Range Facility (PMRF) in Hawaii, and Vandenberg Air Force Base (AFB) in California.

A Record of Decision will be issued no earlier than 30 days from the date this notice appears in the Federal Register.

DATES: Consideration will be given to all comments provided on or before August 14, 2003.

ADDRESSES: Requests for copies of the document or to provide comments on the FEIS should be addressed to: U.S. Army Space and Missile Defense Command, ATTN: SMDC-EN-V (Mrs. Julia Hudson-Elliott), P.O. Box 1500, Huntsville, AL 35805, by e-mail at gmdetreis@smdc.army.mil, or by phone at 1-800-823-8823.

FOR FURTHER INFORMATION CONTACT: Please call Mr. Rick Lehner, MDA Director of Communications at (703) 697-8997.

SUPPLEMENTARY INFORMATION: The Missile Defense Agency (MDA) and the Federal Aviation Administration (FAA) (cooperating agency) announced the availability of the Ground-Based Midcourse Defense Extended Test Range Draft Environmental Impact Statement (DEIS) on February 7, 2003 (68 FR 26 6420) providing notice that the DEIS was available for comment. The DEIS public review period was from February 7, 2003 through April 15, 2003. Public hearings were held February 24 through March 6, 2003. Comments from the DEIS review and public hearings have been considered and included along with responses in the FEIS.

The proposed action and alternatives examined in the FEIS include development of the capability for single and dual launches of interceptor and target missiles at the Kodiak Launch Complex (KLC) Alaska, RTS, and/or Vandenberg AFB, with intercepts over the Pacific Ocean. Development of these capabilities would entail construction of two interceptor launchers, one additional target launch pad and construction/alteration of launch support facilities at KLC; target pad modifications at RTS; modification of support facilities at Vandenberg AFB; construction of In-Flight Interceptor Communication System (IFICS) Data Terminals and military and commercial satellite communications in the mid-Pacific and at KLC or Vandenberg AFB; additional range instrumentation (tracking and range safety radars) in the vicinity of sites; and use of either existing Battle Management Command and Control (BMC2) facilities at RTS, or new BMC2 facilities that may be developed at Forth Greely, Alaska and/or Shriever AFB, or Cheyenne Mountain Complex, Colorado, in the validation of the GMD operational concept effort.

Additionally, the proposed action and alternatives include the construction and operation of a Sea-Based Test X-Band Radar (SBX) that would operate in the Pacific broad ocean area and would be home-based in either Alaska, California, Washington, RTS, or Hawaii.

Copies of the FEIS have been distributed to Federal, State, and local agencies; public officials; and organizations and individuals that previously requested copies of the DEIS or FEIS. Copies of the FEIS will be available at the following public libraries:

• Anchorage Municipal Library, 3600 Denali St., Anchorage, AK 99503

• Everett Library, 2702 Hoyt Ave., Everett, WA 98201

• Kodiak City Library, 319 Lower Mill Bay Rd., Kodiak, AK 99615

• Lompoc Public Library, 501 E. North Ave., Lompoc, CA 93436

• Mountain View Branch Library, 150 S. Bragaw St., Anchorage, AK 99508

• Oxnard Public Library, 251 S. A St., Oxnard, CA 93030

• Valdez City Library, 212 Fairbanks, Valdez, AK 99686

• Hawaii State Library, Hawaii Documents Center, 478 South King St., Honolulu, HI 96813

• University of Hawaii at Manoa, Hamilton Library, 2550 The Mall, Honolulu, HI 96822

• Hanapepe Public Library, 4490 Kona Rd., Hanapepe, HI 96716

• Kapaa Public Library, 1464 Kuhio Highway, Kapaa, HI 96746

• Koloa Public & School Library, 3451 Poipu Rd., Koloa, HI 96756

• Lihue Public Library, 4344 Hardy St., Lihue, HI 96766

• Princeville Public Library, 4343 Emmalani Drive, Princeville, HI 96722

• Waimea Public Library, 9750 Kaumualii Highway, Waimea, HI 96796

• Ray D. Prueter Library, 510 Park Ave., Port Hueneme, CA 93041

The library locations and the FEIS are also available on the MDA Internet site: www.acq.osd.mil/bmdo/bmdolink/html/bmdolink.html

Dated: July 11, 2003.
Patricia L. Toppings,
Alternate OSD Federal Register Liaison Officer, Department of Defense.

[FR Doc. 03-17956 Filed 7-11-03; 1:53 pm]

BILLING CODE 5001-08-P